DEPARTMENT OF TRANSPORTATION

National Highway Traffic Safety Administration

[Docket No. NHTSA-2014-0095; Notice 2]

Michelin North America, Inc., Grant of Petition for Decision of Inconsequential Noncompliance

AGENCY: National Highway Traffic Safety Administration (NHTSA), Department of Transportation (DOT).

ACTION: Grant of petition.

SUMMARY: Michelin North America, Inc. (MNA) has determined that certain Michelin Pilot Street Radial replacement motorcycle tires, do not fully comply with paragraph S6.5(f) of Federal Motor Vehicle Safety Standard (FMVSS) No. 119, New Pneumatic Tires for Motor Vehicles with a GVWR of More Than 4,536 kilograms (10,000 pounds) and Motorcycles. MNA has filed an appropriate report dated July 3, 2014, pursuant to 49 CFR part 573, Defect and Noncompliance Responsibility and Reports.

ADDRESSES: For further information on this decision contact Abraham Diaz, Office of Vehicle Safety Compliance, the National Highway Traffic Safety Administration (NHTSA), telephone (202) 366-5310, facsimile (202) 366-5930.

SUPPLEMENTARY INFORMATION: I. MNA's Petition: Pursuant to 49 U.S.C. 30118(d) and 30120(h) and the rule implementing those provisions at 49 CFR part 556, MNA has petitioned for an exemption from the notification and remedy requirements of 49 U.S.C. Chapter 301 on the basis that this noncompliance is inconsequential to motor vehicle safety.

Notice of receipt of the petition was published, with a 30-day public comment period, on September 23, 2014 in the Federal Register (FR 56852). No comments were received. To view the petition and all supporting documents log onto the Federal Docket Management System (FDMS) Web site at: http://www.regulations.gov/. Then follow the online search instructions to locate docket number “NHTSA-2014-0095.”

II. Tires Involved: Affected are approximately 889 Michelin Pilot Street Radial motorcycle tires, involving a total of three dimensions (110/70 R17 54H, 130/70 R17 62H, and 140/70 R17 66H), that were manufactured between August 12, 2012 and December 21, 2013 in Phrapradaeng, Thailand.

III. Noncompliance: MNA explains that the noncompliance is that on the sidewall containing the DOT Tire Identification Number (TIN,) the marking describing the generic material content of the casing plies for tread and sidewall, required by paragraph S6.5(f) of FMVSS No. 119, is incorrect.

For the subject tires, the marking reads:

Tread plies | Sidewall plies
2 polyamide | 2 polyamide
1 aramid |

The correct marking for these tires is:

Tread plies | Sidewall plies
2 polyester | 2 polyester
1 aramid |

V. Rule Text: Paragraph S6.5(f) of FMVSS No. 119 requires in pertinent part:

S6.5 Tire markings. Except as specified in this paragraph, each tire shall be marked on each sidewall with the information specified in paragraphs (a) through (j) of this section. . . . Markings may appear on only one sidewall and the entire sidewall area may be used in the case of motorcycle tires and recreational, boat, baggage, and special trailer tires. . . .

(f) The actual number of plies and the composition of the ply cord material in the sidewall and, if different, in the tread area; . . .

V. Summary of MNA's Analyses: MNA stated its belief that the subject noncompliance is inconsequential to motor vehicle safety for the following reasons:

(A) The subject tires meet or exceed all of the minimum performance requirements of FMVSS No. 119 for motorcycle tires, and carry on their sidewalls all the other required markings of FMVSS No. 119. The content of these tires is as designed; it is only the marking of the generic material for the casing plies which is inconsistent with the content. Since the generic material marking does not influence the purchase nor the fitment of tires to vehicles, the above described noncompliance is viewed by MNA to have no impact on the performance of the tire, nor the associated motor vehicle safety.

(B) The subject tires contain the necessary tire material labeling information on at least one sidewall. The number of reinforcing plies in the tread, and in the sidewall, are correct. It is the descriptor for the generic material which is not consistent with the actual content of the tire—“Polyamide” in place of “Polyester.” Since this marking is only on one sidewall and there is no other marking to compare it to, consumers will not be confused by the content of the marking, nor do they make purchasing decisions based upon this mark. Only a specialist, familiar with the differences between “Polyamide” and “Polyester”, with access to the internal content of the tire, would recognize this discrepancy.

(C) This marking discrepancy has no impact on a consumer's, dealer's, or distributor's ability, nor our ability, to identify product in the event of a market action. During market actions, the tire dimension, brand name, load capacity, and TIN are used to identify tires which are to be removed from the market. The tire's generic material content marking would therefore not have an impact on a consumer's or dealer's ability to implement a market action.

(D) MNA stated its belief that NHTSA has granted previous petitions for inconsequential noncompliance involving noncompliant ply-cord generic material content labeling. For example, the term “Polyester” was substituted for “Nylon” in a tread ply labeling noncompliance for which a petition was filled by Goodyear Tire and Rubber Company (Goodyear). In that case, NHTSA agreed with Goodyear that the non-compliance was inconsequential to motor vehicle safety. See 77 FR 2775.

MNA has additionally informed NHTSA that it has corrected the noncompliance so that all future production motorcycle tires will comply with FMVSS No. 119.

In summation, MNA believes that the described noncompliance of the subject motorcycle tires is inconsequential to motor vehicle safety, and that its petition, to exempt MNA from providing recall notification of noncompliance as required by 49 U.S.C. 30118 and remedying the recall noncompliance as required by 49 U.S.C. 30120 should be granted.

NHTSA Decision

NHTSA Analysis: The agency agrees with MNA that the noncompliance is inconsequential to motor vehicle safety. The agency believes that the true measure of inconsequentiality to motor vehicle safety in this case is that there is no effect of the noncompliances on the operational safety of vehicles on which these tires are mounted. Although tire construction affects the strength and durability, neither the agency nor the tire industry provides information relating tire strength and durability to the number of plies and types of ply cord material in the tread and sidewall. Therefore, tire dealers and customers should consider the tire construction information along with other information such as load capacity, maximum inflation pressure, and tread wear, temperature, and traction ratings, to assess performance capabilities of various tires.

In the agency's judgment, the incorrect labeling of the tire construction information in this instance will have an inconsequential effect on motor vehicle safety because most consumers do not base tire purchases or vehicle operation parameters on the ply material in a tire.

NHTSA Decision: In consideration of the foregoing, NHTSA has decided that MNA has met its burden of persuasion that the FMVSS No. 119 noncompliance is inconsequential to motor vehicle safety. Accordingly, MNA's petition is hereby granted and MNA is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant tires that MNA no longer controlled at the time it determined that the noncompliance existed. However, the granting of this petition does not relieve vehicle distributors and dealers of the prohibitions on the sale, offer for sale, or introduction or delivery for introduction into interstate commerce of the noncompliant tires under their control after MNA notified them that the subject noncompliance existed.

Authority: (49 U.S.C. 30118, 30120: delegations of authority at 49 CFR 1.95 and 501.8).

Jeffrey M. Giuseppe,
Acting Director, Office of Vehicle Safety Compliance.

[FR Doc. 2014-30241 Filed 12-29-14; 8:45 am]

BILLING CODE 4910-59-P